DEPARTMENT OF AGRICULTURE

Forest Service

Notice of Intent To Prepare a Supplemental Environmental Impact Statement To Disclose the Environmental Impact of Proposed Changes to the Kensington Gold Mine Project; Tongass National Forest, Juneau Ranger District, Juneau, AK

AGENCY: Forest Service, USDA.

ACTION: Notice, intent to prepare a supplemental environmental impact statement.

SUMMARY: Pursuant to section 102(2)(C) of the National Environmental Policy Act of 1969, the USDA Forest Service, Tongass National Forest, under the direction of the Juneau Ranger District, will prepare a supplemental environmental impact statement (SEIS) to analyze and display the effects of proposed changes to the Kensington Gold Project, located on public and private lands in southeastern Alaska. The mine is operated by Coeur Alaska, Inc. and is located approximately 45 miles north of downtown Juneau. An Environmental Impact Statement was completed and a Record of Decision signed on January 29, 1992. A new Record of Decision, based on a Supplemental Environmental Impact Statement, was signed on August 1, 1997. The proposed changes to the Kensington Gold Project Plan of Operations are relative to the August 1, 1997 decision.

DATES: Comments will be accepted throughout the EIS process but, to be most useful during the analysis, they should be received in writing on or before October 15, 2002.

ADDRESSES: Written comments and suggestions concerning the analysis should be sent to Jeff DeFreest, Minerals Program Manager, Juneau Ranger District, 8465 Old Dairy Road, Juneau, Alaska, 99801 or e-mail to jdefreest@fs.fed.us.

FOR FURTHER INFORMATION CONTACT: Jeff DeFreest, Minerals Program Manager, Juneau Ranger District, 8465 Old Dairy Road, Juneau, Alaska 99801; phone (9074) 586-8800; fax (907) 790-7464 or e-mail to jdefreest@fs.fed.us.

SUPPLEMENTARY INFORMATION: The proposed operations are subject to approval of a Plan of Operations under 36 CFR, part 228, which is intended to ensure that adverse environmental effects on National Forest System lands and resources are minimized. The proposed changes to the project's Plan of Operations include the following:

1. Marine access facilities would be relocated from Comet Beach, on the shore of Lynn Canal, to new facilities located at Slate Creek Cove.

2. An access tunnel would be driven from the existing Kensington Portal to the Jualin claims.

3. The Dry Tailings Facility and related filter plant, approved in the 1997 decision, would not be constructed. Tailings would be transported, as slurry, via a pipeline from the mill site to a subaqueous disposal site in an existing lake at the headwaters of Slate Creek.

4. Process and support facilities for operation of the Kensington Mine would be located at the Jualin claims.

5. Fuel storage and borrow source requirements would reduced.

6. A permanent personnel camp would not be constructed. Mine workers would commute daily by ferry from a facility at Echo Cove to the dock facility at Slate Creek Cove.

The purpose and need for the Proposed Action is to consider certain changes to the 1998 approved Plan of Operations for the Kensington Gold Project regarding access, tailings disposal and support facilities in order to improve efficiency and to reduce the area of surface disturbance and other environmental impacts.

In addition to the Forest Service, the Environmental Protection Agency and U.S. Army Corps of Engineers have jurisdiction and will participate as cooperating agencies in the preparation of the SEIS. The Forest Service has agreed to be the lead agency. EPA will be responsible for assuring that the analysis provides sufficient information for issuance of a National Pollutant Discharge Elimination System permit under authority of the Clean Water Act. The Corps will be responsible for ensuring that the analysis provides sufficient information for issuance of permits required under Section 404 of the Clean Water Act permit and Section 10 of the Rivers and Harbors Act of 1899 permit, and for compliance with Executive Order 11990 and 11988 related to wetlands and floodplains. Memorandums of Understanding will be initiated with both of the cooperating agencies.

The decision to be made is whether or not to approve the Plan of Operations as amended or require the operator to revise its proposal. The 1997 SEIS analyzed the effects of developing the Kensington Gold Project and the Record of Decision approved the conditions under which the project could proceed. This SEIS will analyze the effects of proposed changes to the Plan of Operations that differ from those approved in the 1997 decision.

Key resources to be analyzed include water quality from the discharge to Slate Creek; impacts to wetlands; impacts to fisheries from the discharge; visual effects to the Berners Bay area; water quality effects to the Berners Bay area and potential for impacts to the recreation resources in Berners Bay.

Fred S. Salinas, Deputy Forest Supervisor, Tongass National Forest, is the responsible official.

The Forest Service is seeking information and comments from Federal, State, and local agencies as well as individuals and organizations who may be interested in, or affected by the proposed action.

DATES: Public scoping meetings are planned in Juneau at Centennial Hall from 2 p.m. until 7 p.m. on Tuesday, September 17, 2002 and in Haines at the Council Chambers in City Hall from 2 p.m. until 7 p.m. on Thursday, September 19, 2002. If weather precludes travel to Haines on the 19th, the meeting will be held September 26th instead.

The draft supplemental environmental impact statement should be available for public review by March 11, 2003. The comment period on the draft supplemental environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions, Vermont Yankee Nuclear Power Corp. v. NRDC, 435 U.S. 519, 553 (1978). Also, environmental objections that could be raised at the draft environmental impact statement stage but that are not raised until after the completion of the final environmental impact statement may be waived or dismissed by the courts, City of Angoon v. Hodel, 803 F.2d. 1016, 1022 (9th Cir. 1986) and Wisconsin Heritages, Inc. v. Harris, 490 F. Supp., 1334, 1338 (E.D. Wis. 1980). Because of these court rulings, it is very important that those interested in this proposed action participate by the close of the draft supplemental environmental impact statement 45 day comment period so that substantive comments and objections are made available to the Forest Service at a time when it can meaningfully consider them and respond to them in the final environmental impact statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

The final supplemental environmental impact statement is scheduled to be completed by August 27, 2003. The Deputy Forest Supervisor for the Tongass National Forest will, as the responsible official for the SEIS, make a decision regarding this proposal considering the comments, responses, and environmental consequences discussed in the Final SEIS, and applicable laws, regulations, and policies. The decision and supporting reasons will be documented in a Record of Decision.

Dated: September 3, 2002.
Fred S. Salinas,
Deputy Forest Supervisor.

[FR Doc. 02-23296 Filed 9-12-02; 8:45 am]

BILLING CODE 3410-11-M